SUSQUEHANNA RIVER BASIN COMMISSION

Notice of Public Hearing and Commission Meeting

AGENCY: Susquehanna River Basin Commission.

ACTION: Notice of Public Hearing and Commission Meeting.

SUMMARY: The Susquehanna River Basin Commission will hold a public hearing as part of its regular business meeting beginning at 1 p.m. on March 13, 2008 in Bedford, Pennsylvania. At the public hearing, the Commission will consider: (1) A request for an administrative hearing, (2) approval of certain water resources projects, including one enforcement action and several diversions into and out of the basin for pipeline testing, and (3) a separate rescission of an existing docket approval. Details concerning the matters to be addressed at the public hearing and business meeting are contained in the Supplementary Information section of this notice.

DATES: March 13, 2008.

ADDRESSES: Bedford Springs Resort, P.O. Box 639, Bedford, Pa. See Supplementary Information section for mailing and electronic mailing addresses for submission of written comments.

FOR FURTHER INFORMATION CONTACT: Richard A. Cairo, General Counsel, telephone: (717) 238-0423; ext. 306; fax: (717) 238-2436; e-mail: rcairo@srbc.net or Deborah J. Dickey, Secretary to the Commission, telephone: (717) 238-0423, ext. 301; fax: (717) 238-2436; e-mail: ddickey@srbc.net.

SUPPLEMENTARY INFORMATION: In addition to the public hearing and its related action items identified below, the business meeting also includes the following items on the agenda: (1) A special presentation on the Bedford Springs Resort renovation project, (2) a report on the present hydrologic conditions of the basin, (3) authorization to release for public comment a proposed increase of the consumptive use fee from its current level of 14 cents per 1,000 gallons of water consumed to 28 cents per 1,000 gallons consumed with an annual CPI adjustment, (4) a Consumptive Use Mitigation Plan, (5) the 2008 Water Resources Program, (6) adjustments in the FY-09 Budget, and (7) approval of various grants and contracts.

Public Hearing—Request for Administrative Hearing

1. Project Sponsor: East Hanover Township, Dauphin Co., Pa. re: December 5, 2007 Commission approval of a consumptive use for Mountainview Thoroughbred Racing Association, Inc.

Public Hearing—Projects Scheduled for Action

1. Project Sponsor and Facility: Cooperstown Dreams Park, Inc., Town of Hartwick, Otsego County, N.Y. Modification of consumptive use and surface water withdrawal approval (Docket No. 20060602).

2. Project Sponsor and Facility: Millennium Pipeline Company, L.L.C. (Chenango River), Towns of Chenango and Fenton, Broome County, N.Y. Application for surface water withdrawal of 2.480 mgd.

3. Project Sponsor and Facility: Millennium Pipeline Company, L.L.C. (Susquehanna River); Town of Windsor; Broome, Tioga, and Chemung Counties; N.Y. Application for surface water withdrawal of 4.130 mgd.

4. Project Sponsor and Facility: Millennium Pipeline Company, L.L.C. (Newtown Creek), Town of Horseheads, Chemung County, N.Y. Application for surface water withdrawal of 2.150 mgd.

5. Project Sponsor and Facility: Millennium Pipeline Company, L.L.C. (Cayuta Creek); Towns of Van Etten and Barton; Chemung and Tioga Counties, N.Y. Application for surface water withdrawal of 2.810 mgd.

6. Project Sponsor and Facility: Millennium Pipeline Company, L.L.C. (Owego Creek), Towns of Owego and Tioga, Tioga County, N.Y. Application for surface water withdrawal of 3.000 mgd.

7. Project Sponsor: Sand Springs Development Corp. Project Facility: Sand Springs Golf Community, Butler Township, Luzerne County, Pa. Modification of groundwater withdrawal approval (Docket No. 20030406).

8. Project Sponsor and Facility: First Quality Tissue, LLC, City of Lock Haven, Clinton County, Pa. Applications for consumptive water use of up to 2.500 mgd and surface water withdrawal of 10.500 mgd.

9. Project Sponsor: Wynding Brook, Inc. Project Facility: Wynding Brook Golf Club (formerly Turbot Hills Golf Club), Turbot Township, Northumberland County, Pa. Applications for consumptive water use of up to 0.283 mgd and surface water withdrawal of 0.499 mgd, and rescission of Commission Docket No. 20020808.

10. Project Sponsor: Papetti's Hygrade Egg Products, Inc. Project Facility: Michael Foods Egg Products Co., Upper Mahanoy Township, Schuylkill County, Pa. Modification of consumptive water use and groundwater withdrawal approval (Docket No. 19990903).

11. Project Sponsor and Facility: Mountainview Thoroughbred Racing Association, Inc., East Hanover Township, Dauphin County, Pa. Application for groundwater withdrawal of 0.400 mgd.

12. Project Sponsor and Facility: Bottling Group, LLC, dba The Pepsi Bottling Group—Harrisburg, Lower Paxton Township, Dauphin County, Pa. Application for consumptive water use of up to 0.466 mgd, and settlement of an outstanding compliance matter.

13. Project Sponsor: Martin Limestone, Inc. Project Facility: Burkholder Quarry, Earl Township, Lancaster County, Pa. Modification of groundwater withdrawal approval (Docket No. 20040307).

14. Project Sponsor: Golf Enterprises, Inc. Project Facility: Valley Green Golf Course, Newberry Township, York County, Pa. Modification of groundwater withdrawal approval (Docket No. 20021019).

15. Project Sponsor: Springwood, LLC Project Facility: Springwood Golf Club, York Township, York County, Pa. Applications for consumptive water use of up to 0.350 mgd and surface water withdrawal of 0.400 mgd.

16. Project Sponsor and Facility: Port Deposit Water & Sewer Authority, Town of Port Deposit, Cecil County, Md. Application for surface water withdrawal of 1.500 mgd.

Public Hearing—Project Scheduled for Action Involving Diversions

1. Project Sponsor and Facility: Millennium Pipeline Company, L.L.C., Re: Nos. 2-6 above, Projects Scheduled for Action, Chemung, Tioga & Broome Counties, N.Y. A portion of the waters withdrawn by these projects (up to 3.230 mgd) will be diverted into the Delaware River Basin and the Great Lakes Basin, which will also constitute a consumptive use of water.

Public Hearing—Project Scheduled for Rescission Action

1. Project Sponsor and Facility: Walsh Construction (Docket No. 20050603), Fermanagh Township, Juniata County, Pa.

Opportunity To Appear and Comment

Interested parties may appear at the above hearing to offer written or oral comments to the Commission on any matter on the hearing agenda, or at the business meeting to offer written or oral comments on other matters scheduled for consideration at the business meeting. The chair of the Commission reserves the right to limit oral statements in the interest of time and to otherwise control the course of the hearing and business meeting. Written comments may also be mailed to the Susquehanna River Basin Commission, 1721 North Front Street, Harrisburg, Pennsylvania 17102-2391, or submitted electronically to Richard A. Cairo, General Counsel, e-mail: rcairo@srbc.net or Deborah J. Dickey, Secretary to the Commission, e-mail: ddickey@srbc.net. Comments mailed or electronically submitted must be received prior to December 5, 2007 to be considered.

Authority: Pub. L. 91-575, 84 Stat. 1509 et seq., 18 CFR Parts 806, 807, and 808.

Dated: February 22, 2008.
Thomas W. Beauduy,
Deputy Director.

[FR Doc. E8-3948 Filed 2-29-08; 8:45 am]

BILLING CODE 7040-01-P